DEPARTMENT OF COMMERCE

International Trade Administration

[A-570-139]

Certain Mobile Access Equipment and Subassemblies Thereof From the People's Republic of China: Preliminary Results and Partial Rescission of Antidumping Duty Administrative Review; 2023-2024

AGENCY: Enforcement and Compliance, International Trade Administration, Department of Commerce.

SUMMARY: The U.S. Department of Commerce (Commerce) preliminarily determines that companies under review sold certain mobile access equipment and subassemblies thereof (MAE) at prices below normal value during the period of review April 1, 2023, through March 31, 2024. In addition, Commerce is rescinding this review with respect to Xuzhou Construction Machinery Group Imp. & Exp. Co., Ltd. (Xuzhou). Interested parties are invited to comment on these preliminary results of review.

DATES: Applicable August 8, 2025.

FOR FURTHER INFORMATION CONTACT: Christopher Williams, AD/CVD Operations, Office I, Enforcement and Compliance, International Trade Administration, U.S. Department of Commerce, 1401 Constitution Avenue NW, Washington, DC 20230; telephone: (202) 482-5166.

SUPPLEMENTARY INFORMATION:

Background

On April 14, 2022, Commerce published in the Federal Register the antidumping duty order on MAE from China.¹ On April 1, 2024, Commerce published in the Federal Register a notice of opportunity to request an administrative review of the Order for the POR.² On June 12, 2024, based on timely requests for an administrative review, in accordance with 19 CFR 351.221(c)(1)(i), we initiated this administrative review of the Order with respect to five companies.³ On July 12, 2024, Commerce received two separate rate certifications (SRCs). On July 22, 2024, Commerce received one SRC and two separate rate applications (SRAs). Because Xuzhou's review request is fully withdrawn, this administrative review now covers four companies, including one mandatory respondent, Zhejiang Dingli Machinery Co., Ltd. (Dingli).

¹ See Certain Mobile Access Equipment and Subassemblies Thereof from the People's Republic of China: Antidumping Duty Order, 87 FR 22190 (April 14, 2022) (Order).

² See Antidumping or Countervailing Duty Order, Finding, or Suspended Investigation; Opportunity to Request Administrative Review and Join Annual Inquiry Service List, 89 FR 22390, 22391 (April 1, 2024).

³ See Initiation of Antidumping and Countervailing Duty Administrative Reviews, 89 FR 49844 (June 12, 2024).

On July 22, 2024, Commerce tolled certain deadlines in this review by seven days.⁴ On November 22, 2024, we extended the deadline for the preliminary results of this review to May 7, 2025.⁵ On December 9, 2024, Commerce tolled certain administrative deadlines in this administrative review by an additional 90 days.⁶ Accordingly, the deadline for these preliminary results is now August 5, 2025. For a complete description of the events that occurred since the initiation of this review, see the Preliminary Decision Memorandum.⁷

⁴ See Memorandum, “Tolling of Deadlines for Antidumping and Countervailing Duty Proceedings,” dated July 22, 2024.

⁵ See Memorandum, “Extension of Deadline for Preliminary Results of Antidumping Duty Administrative Review,” dated November 22, 2024.

⁶ See Memorandum, “Tolling of Deadlines for Antidumping and Countervailing Duty Proceedings,” dated December 9, 2024.

⁷ See Memorandum, “Decision Memorandum for the Preliminary Results of the Antidumping Duty Administrative Review of Certain Mobile Access Equipment and Subassemblies Thereof from the People's Republic of China; 2023-2024,” dated concurrently with, and hereby adopted by, this notice (Preliminary Decision Memorandum).

Scope of the Order ⁸

⁸ See Order, 87 FR at 22190.

The merchandise covered by the Order is MAE from China. A full description of the scope of the Order is contained in the Preliminary Decision Memorandum.

Partial Rescission of Administrative Review

Pursuant to 19 CFR 351.213(d)(1), Commerce will rescind an administrative review, in whole or in part, if a party who requested the review withdraws the request within 90 days of the date of publication of notice of initiation of the requested review. On July 25, 2024, Xuzhou timely withdrew its request for an administrative review.⁹ Because there are no outstanding review requests for this company, Commerce is rescinding the administrative review of Xuzhou, consistent with 19 CFR 351.213(d)(1).

⁹ See Xuzhou's Letter, “Withdrawal of Request for Administrative Review,” dated July 25, 2024.

Separate Rates

We preliminarily granted a separate rate to certain companies that we did not select for individual examination.¹⁰ The Tariff Act of 1930, as amended (the Act) and Commerce's regulations do not address the establishment of a separate rate to be applied to companies not selected for individual examination when Commerce limits its examination in an administrative review pursuant to section 777A(c)(2) of the Act. Generally, Commerce looks to section 735(c)(5)(A) of the Act, which pertains to the calculation of the all-others rate in a market economy investigation, for guidance. Pursuant to section 735(c)(5)(A) of the Act, normally this rate shall be an amount equal to the weighted-average of the estimated weighted-average dumping margins established for those companies individually examined, excluding zero and de minimis dumping margins, and any dumping margins based entirely under section 776 of the Act.

¹⁰ See Preliminary Decision Memorandum for additional details.

Commerce calculated an individual estimated weighted-average dumping margin for Dingli that is not zero, de minimis, or based entirely on facts otherwise available. Thus, the weighted-average dumping margin calculated for Dingli is the basis to determine the weighted-average dumping margin for the non-examined, separate rate companies in this administrative review.¹¹ See the table below in the “Preliminary Results of Review” section of this notice.

¹¹ See Memorandum, “Preliminary Analysis Memorandum,” dated concurrently with this notice.

China-Wide Entity

Commerce's policy regarding the conditional review of the China-wide entity applies to this administrative review.¹² Under this policy, the China-wide entity will not be under review unless a party specifically requests, or Commerce self-initiates, a review of the entity. Because no party requested a review of the China-wide entity in this review, the China-wide entity is not under review, and the China-wide entity's rate (i.e., 165.14 percent) is not subject to change.¹³

¹² See Antidumping Proceedings: Announcement of Change in Department Practice for Respondent Selection in Antidumping Duty Proceedings and Conditional Review of the Nonmarket Economy Entity in NME Antidumping Duty Proceedings, 78 FR 65963 (November 4, 2013).

¹³ See Certain Mobile Access Equipment and Subassemblies Thereof from the People's Republic of China: Final Affirmative Determination of Sales at Less Than Fair Value, 87 FR 9576 (February 22, 2022).

Methodology

Commerce is conducting this review in accordance with section 751(a)(1)(B) of the Act. For a full description of the methodology underlying these preliminary results, see the Preliminary Decision Memorandum. A list of the topics discussed in the Preliminary Decision Memorandum is attached as the appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx

Preliminary Results of Review

We preliminarily determine that the following weighted-average dumping margins exist for the period April 1, 2023, through March 31, 2024:

Exporter | Weighted- average dumping margin (percent)
Zhejiang Dingli Machinery Co., Ltd | 9.75
Separate Rate for Non-Examined Companies:
Hunan Sinoboom Intelligent Equipment Co., Ltd | 9.75
Terex (Changzhou) Machinery Co., Ltd | 9.75
Oshkosh JLG (Tianjin) Equipment Technology Co., Ltd | 9.75

Disclosure

Commerce intends to disclose its calculations performed to interested parties in these preliminary results of this administrative review within five days of its public announcement or, if there is no public announcement, within five days after publication of this notice in the Federal Register, in accordance with 19 CFR 351.224(b).

Public Comment

Case briefs or other written comments may be submitted to the Assistant Secretary for Enforcement and Compliance. Pursuant to 19 CFR 351.309(c)(1)(ii), we have modified the deadline for interested parties to submit case briefs to Commerce no later than 21 days after the date of the publication of this notice. Rebuttal briefs, limited to issues raised in the case briefs, may be filed not later than five days after the date for filing case briefs.¹⁴ Interested parties who submit case briefs or rebuttal briefs in this administrative review must submit: (1) a table of contents listing each issue; and (2) a table of authorities.¹⁵

¹⁴ See 19 CFR 351.309(d); see also Administrative Protective Order, Service, and Other Procedures in Antidumping and Countervailing Duty Proceedings, 88 FR 67069, 67077 (September 29, 2023) (APO and Service Final Rule).

¹⁵ See 19 CFR 351.309(c)(2) and (d)(2).

As provided under 19 CFR 351.309(c)(2) and (d)(2), in prior proceedings we have encouraged interested parties to provide an executive summary of their briefs that should be limited to five pages total, including footnotes. In this administrative review, we instead request that interested parties provide at the beginning of their briefs a public executive summary for each issue raised in their briefs.¹⁶ Further, we request that interested parties limit their public executive summary of each issue to no more than 450 words, not including citations. We intend to use the public executive summaries as the basis of the comment summaries included in the issues and decision memorandum that will accompany the final results of this administrative review. We request that interested parties include footnotes for relevant citations in the public executive summary of each issue. Note that Commerce has amended certain of its requirements pertaining to the service of documents in 19 CFR 351.303(f).¹⁷

¹⁶ We use the term “issue” here to describe an argument that Commerce would normally address in a comment of the Issues and Decision Memorandum.

¹⁷ See APO and Service Final Rule.

Pursuant to 19 CFR 351.310(c), interested parties who wish to request a hearing, limited to issues raised in the case and rebuttal briefs, must submit a written request to the Assistant Secretary for Enforcement and Compliance, U.S. Department of Commerce via ACCESS by 5:00 p.m. Eastern Time within 30 days after the date of publication of this notice in the Federal Register. Hearing requests should contain: (1) the party's name, address, and telephone number; (2) the number of participants and whether any participant is a foreign national; and (3) a list of issues to be discussed. Oral presentations at the hearing will be limited to issues raised in the case and rebuttal briefs. If a request for a hearing is made, parties will be notified of the date, time, and location of the hearing.¹⁸ Parties should confirm the date, time, and location of the hearing two days before the scheduled hearing date.

¹⁸ See 19 CFR 351.310(d).

Final Results of Review

Unless the deadline is extended, Commerce intends to issue the final results of this administrative review, including the results of its analysis of issues raised in written briefs, no later than 120 days after the date of publication of this notice in the Federal Register, pursuant to section 751(a)(3)(A) of the Act and 19 CFR 351.213(h)(1).

Assessment Rates

Upon completion of the final results of this administrative review, in accordance with section 751(a)(2)(A) of the Act, Commerce shall determine and U.S. Customs and Border Protection (CBP) shall assess antidumping duties on all appropriate entries of subject merchandise covered by this review.¹⁹ If Dingli's weighted-average dumping margin is not zero or de minimis (i.e., less than 0.50 percent) in the final results of this review, we intend to calculate an importer-specific assessment rate for antidumping duties based on the ratio of the total amount of dumping calculated for each importer's examined sales and the total entered value of those same sales in accordance with 19 CFR 351.212(b)(1).²⁰ If Dingli's weighted-average dumping margin or an importer-specific assessment rate is zero or de minimis in the final results of this review, we intend to instruct CBP to liquidate the appropriate entries without regard to antidumping duties.²¹

¹⁹ See 19 CFR 351.212(b)(1).

²⁰ See Antidumping Proceedings: Calculation of the Weighted-Average Dumping Margin and Assessment Rate in Certain Antidumping Proceedings: Final Modification, 77 FR 8101, 8103 (February 14, 2012).

²¹ Id., 77 FR at8102-03; see also 19 CFR 351.106(c)(2).

For the company for which this review is rescinded with these preliminary results, we will instruct CBP to assess antidumping duties on all appropriate entries at a rate equal to the cash deposit of estimated antidumping duties required at the time of entry, or withdrawal from warehouse, for consumption, during the period of review, in accordance with 19 CFR 351.212(c)(1)(i). Commerce intends to issue these rescission instructions to CBP no earlier than 35 days after the date of publication of this notice in the Federal Register.

The final results of this administrative review shall be the basis for the assessment of antidumping duties on entries of merchandise covered by the final results of this review and for future deposits of estimated duties, where applicable.²²

²² See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired, i.e., within 90 days of publication.

Cash Deposit Requirements

The following cash deposit requirements will be effective upon publication of the final results of this administrative review for shipments of the subject merchandise from China entered, or withdrawn from warehouse, for consumption on, or after, the publication date of the final results of review, as provided in section 751(a)(2)(C) of the Act: (1) for the subject merchandise exported by the companies listed above that have a separate rate, the cash deposit rate will be equal to the weighted-average dumping margin established in the final results of this administrative review (except, if the rate is zero or de minimis, then zero cash deposit will be required); (2) for previously investigated or reviewed Chinese and non-Chinese exporters of subject merchandise not listed above that received a separate rate in a prior segment of this proceeding, the cash deposit rate will continue to be the existing exporter-specific rate; (3) for all Chinese exporters of subject merchandise that have not been found to be entitled to a separate rate, the cash deposit rate will be that for the China-wide entity, i.e., 165.14 percent; ²³ and (4) for all non-Chinese exporters of subject merchandise which have not received their own separate rate, the cash deposit rate will be the rate applicable to the Chinese exporter that supplied that non-Chinese exporter. These deposit requirements, when imposed, shall remain in effect until further notice.

²³ See Order, 87 FR at 22191, adjusted for export subsidies as outlined in Certain Mobile Access Equipment and Subassemblies Thereof from the People's Republic of China: Final Affirmative Determination of Sales at Less Than Fair Value, 87 FR 9576, 9578 (February 22, 2022).

Notification to Importers

This notice serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these preliminary results of this administrative review in accordance with sections 751(a)(1) and 777(i)(1) of the Act, 19 CFR 351.213(h)(2), and 19 CFR 351.221(b)(4).

Dated: August 5, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Discussion of the Methodology

V. Adjustment Under Section 777A(f) of the Act

VI. Currency Conversion

VII. Recommendation

[FR Doc. 2025-15117 Filed 8-7-25; 8:45 am]

BILLING CODE 3510-DS-P